CONSUMER PRODUCT SAFETY COMMISSION

Sunshine Act Meeting

AGENCY: Consumer Product Safety Commission, Washington, DC 20207

TIME AND DATE: Wednesday, July 19, 2000 2:00 p.m.

LOCATION: Room 420, East West Towers, 4330 East West Highway, Bethesda, Maryland.

STATUS: Open to the Public.

Matter to be Considered:

FY 2002 Budget Request

The staff will brief the Commission and the Commission will consider issues related to the Commission's budget for fiscal year 2002.

For a recorded message containing the latest agenda information, call (301) 504-0709.

CONTACT PERSON FOR ADDITIONAL INFORMATION: Sadye E. Dunn, Office of the Secretary, 4330 East West Highway., Bethesda, MD 20207 (301) 504-0800.

Dated: July 11, 2000.
Sadye E. Dunn,
Secretary.

[FR Doc. 00-17928 Filed 7-11-00; 3:59 pm]

BILLING CODE 6355-01-M